DEPARTMENT OF THE INTERIOR

Bureau of Indian Affairs

Final Environmental Impact Statement for the Colville Indian Reservation Integrated Resource Management Plan, Colville Confederated Tribes, Colville Reservation, Washington

AGENCY: Bureau of Indian Affairs, Interior.

ACTION: Notice.

SUMMARY: This notice advises the public that the Bureau of Indian Affairs (BIA) intends to file a Final Environmental Impact Statement (FEIS) for an Integrated Resource Management Plan (IRMP) for the Colville Indian Reservation, Washington, with the U.S. Environmental Protection Agency, and that the FEIS is now available for public review. The proposed action is BIA approval for the Colville Confederated Tribes to implement the IRMP for the period 2000-2014. Brief descriptions of the proposed action and seven alternatives are provided in the SUPPLEMENTARY INFORMATION section.

DATES: Written comments must arrive by January 15, 2001.

ADDRESSES: You may mail or hand carry written comments to Jim Orwin, Acting Superintendent, Colville Agency, Bureau of Indian Affairs, P.O. Box 111, Nespelem, Washington 99155-0111.

Persons wishing copies of this FEIS may contact the Colville Confederated Tribes, P.O. Box 150, Nespelem, Washington 99155-0150, Attention: William Nicholson, Acting Executive Director, telephone (509) 634-2238. Copies of the FEIS have been sent to all agencies and individuals that participated in the scoping process and to all others who have already requested copies.

FOR FURTHER INFORMATION CONTACT: Jim Orwin, (509) 634-2308, or William Nicholson, (509) 634-2238.

SUPPLEMENTARY INFORMATION: The BIA is proposing to approve an IRMP for the management of natural resources on the Colville Indian Reservation for the period 2000-2014. This FEIS analyzes the impacts of seven alternatives, as follows:

Alternative 1, no action, would continue the existing management plan. About 1,071.2 million board feet (MMBF) of timber would be harvested across 157,573 acres, and the range management units and allotments on the reservation would be managed as they are now.

Alternative 2 calls for the harvesting of about 953.1 MMBF of timber across 156,989 acres and for a 15 percent general reduction in range use.

Alternative 3 calls for the harvesting of about 818.7 MMBF of timber across 119,683 acres and for the withdrawal of about 269,000 acres of range allotments.

Alternative 4 emphasizes intermediate harvesting to move the structural stage class of stands on the Reservation towards the desired future conditions. About 757.9 MMBF of timber would be harvested across 157,573 acres and allowable animal unit months (AUMs) would be doubled to 121,800.

Alternative 5 emphasizes regenerative harvesting in order to reduce the existing impacts of insects and disease. About 1,421.4 MMBF of timber would be harvested across 157,573 acres and AUMs would increase by 50 percent to 91,350.

Alternative 6 emphasizes forest and watershed health as well as fish and wildlife habitat. About 1,105.1 MMBF of timber would be harvested across 123,556 acres and AUMs would be reduced by 50 percent.

Alternative 7, the preferred alternative, is the IRMP. This emphasizes desired future conditions for all resources, including forest health, watershed health, range management, fish and wildlife management and land revenue goals. About 1,164.5 MMBF of timber would be harvested across 125,680 acres and AUMs would increase by 50 percent to 91,350.

Public Comment Solicitation

As an alternative to submitting written comments regarding the FEIS to the location identified in the ADDRESSES section, interested persons may instead comment via the Internet to jim.orwin@colvilletribes.com. Please submit Internet comments as an ASCII file, avoiding the use of special characters and any form of encryption. If you do not receive confirmation from the system that your Internet message was successfully received, contact us directly at (509) 634-2308.

Comments, including names and home addresses of respondents, will be available for public review at the mailing address shown in the ADDRESSES section during regular business hours, 7:30 a.m. to 4 p.m., Monday through Friday, except holidays. Individual respondents may request confidentiality. If you wish to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published pursuant to § 1503.1 of the Council of Environmental Quality Regulations (40 CFR, parts 1500 through 1508) implementing the procedural requirements of the National Environmental Policy Act of 1969, as amended (42 U.S.C. 437 et seq.) Department of the Interior Manual (510 DM1-7) and is in the exercise of authority delegated to the Assistant Secretary—Indian Affairs by 209 DM 8.

Dated: December 6, 2000.
Kevin Gover,
Assistant Secretary—Indian Affairs.

[FR Doc. 00-31951 Filed 12-14-00; 8:45 am]

BILLING CODE 4310-02-P